DEPARTMENT OF THE INTERIOR

Bureau of Land Management

[LLNM-932000-L1430000-FQ0000; NMNM012273]

Public Land Order No. 7796; Partial Withdrawal Revocation and Transfer of Administrative Jurisdiction, Kirtland Air Force Base; New Mexico

AGENCY: Bureau of Land Management, Interior.

ACTION: Public Land Order.

SUMMARY: This order partially revokes the withdrawal created by Public Land Order No. 995 insofar as it affects approximately 82.81 acres of public land reserved for military purposes on behalf of the United States Department of the Air Force for the portion now containing the Lovelace Respiratory Research Institute. The land is no longer needed for the purpose for which it was withdrawn. This order also transfers administrative jurisdiction to the Department of Energy to allow for a subsequent conveyance of the land in accordance with the Omnibus Public Land Management Act of 2009.

DATES: Effective Date: September 5, 2012.

FOR FURTHER INFORMATION CONTACT: Debby Lucero, Bureau of Land Management, New Mexico State Office, 301 Dinosaur Trail, P.O. Box 27115, Santa Fe, New Mexico 87502-0115, 505-954-2196. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The United States Department of the Air Force has determined that 82.81 acres of public land is excess to its needs and has requested a partial revocation of the withdrawal. Pursuant to Public Law 111-11, the land is found suitable for transfer to the Department of Energy in order to allow for a subsequent conveyance to the Lovelace Respiratory Research Institute.

Order

By virtue of the authority vested in the Secretary of the Interior by Section 204 of the Federal Land Policy and Management Act of 1976, 43 U.S.C. 1714, and Section 13005 of Public Law 111-11, 123 Stat. 1449 (2009), it is ordered as follows:

1. Public Land Order No. 995 (19 FR 5443 (1954)), which withdrew public land and reserved it for use of the United States Department of the Army in connection with Sandia Base, presently managed by the United States Department of the Air Force in connection with Kirtland Air Force Base, is hereby revoked only insofar as it affects the following described land:

New Mexico Principal Meridian

T. 8 N., R. 4 E.,

Sec. 3, lot 18.

The area described contains approximately 82.81 acres, more or less, in Bernalillo County.

2. Pursuant to Section 13005 of Public Law 111-11, 123 Stat. 1449 (2009), and subject to valid existing rights, administrative jurisdiction of the land described in Paragraph 1 is hereby transferred to the Department of Energy in order to allow for a subsequent conveyance to the Lovelace Respiratory Research Institute for research, scientific, or educational use.

Dated: August 23, 2012.
Rhea S. Suh,
Assistant Secretary—Policy, Management and Budget.

[FR Doc. 2012-21800 Filed 9-4-12; 8:45 am]

BILLING CODE 4310-FB-P